DEPARTMENT OF HEALTH AND HUMAN SERVICES

Centers for Disease Control and Prevention

Support for Expanded HIV/AIDS Surveillance, Monitoring and Evaluation, and Information Management Activities in the Central American Region

Announcement Type: New.

Funding Opportunity Number: 04277.

Catalog of Federal Domestic Assistance Number: 93.941.

Key Dates:

Application Deadline: August 30, 2004.

I. Funding Opportunity Description

Authority: This program is authorized under Sections 307 and 317(k)(2) of the Public Health Service Act, [42 U.S.C. Sections 242l and 247b(k)(2)], as amended, and under Public Law 108-25 (United States Leadership Against HIV/AIDS, Tuberculosis and Malaria Act of 2003) [22 U.S.C. sections 7601 et seq.].

Purpose: The primary purpose of this funding announcement is to assist in increasing the capacity for, quality and coverage of HIV/AIDS-related Strategic Information activities undertaken at country level by Ministries of Health and their collaborating in-country partners, and to strengthen the coordination and implementation of region-wide activities that offer region-wide impact and economies of scale. This funding announcement targets the provision of support to specific countries within the Central American region (defined as Belize, Guatemala, El Salvador, Honduras, Nicaragua, Costa Rica and Panama). Strategic Information is defined as programs and activities supporting the implementation of first and second generation epidemiological surveillance surveys, systems for monitoring and evaluation of multi-sectoral national responses to HIV/AIDS, and strategic initiatives to improve infrastructure and systems supporting surveillance, care and treatment, laboratory and information management activities.

Programs, activities and services to be supported through this agreement may include but are not limited to:

—Planning, resource, and implementation support of specific surveillance activities for HIV/AIDS and HIV/AIDS-related conditions;

—Training and capacity building of staff from Ministries of Health, other government Ministries, National Global Fund to Fight AIDS, TB and Malaria (GFATM)-related entities, and civil society organizations;

—Regional and/or sub-regional meetings, conferences and travel supporting the exchange of relevant information and best practices; and

—Recruitment and assignment of short and/or long-term staff and consultants to support relevant activities at country level.

This will be accomplished by funding a regional non-governmental organization (NGO) to provide planning, resource and implementation support to Ministries of Health and their collaborating in-country partners. The regional NGO recipient, based on plans of action developed jointly with CDC and national partners, will be responsible for assisting Ministries of Health and their partners to mobilize for the implementation of expanded Strategic Information activities, through the provision of resources, training and logistical assistance. The CDC Global AIDS Program (GAP) Regional Office for Central America, based in Guatemala City, will collaborate closely with the regional NGO recipient in the design and implementation of these supportive activities as important components of CDC/GAP's annual work plan for HIV/AIDS assistance to countries within the Central American region.

These activities will contribute and lead to: (1) Implementation of existing U.S. Government-supported regional strategic plans for expanded epidemiological surveillance of HIV/AIDS and HIV-related conditions; (2) improved networking, conferencing and communications among and between national HIV/AIDS epidemiologists, program managers and laboratorians from countries within the region; (3) improved national capacity to implement national strategic plans for surveillance of HIV/AIDS and HIV-related conditions; (4) improved national capacity to support the design and implementation of periodic HIV/AIDS surveillance surveys to evaluate behavioral and/or prevalence measures at national, regional, or sub-population levels; (5) improved national systems for HIV/AIDS case reporting, data collection, data management and data analysis, including necessary hardware and software requirements; (6) strengthened national capacities for monitoring and evaluation of the national response to HIV/AIDS, particularly in the context of collecting, managing and analyzing information; and (7) strengthened human capacity at national level for planning, implementation and evaluation of Strategic Information activities.

Measurable outcomes of the program will be in alignment with goals of the CDC National Center for HIV, STD and TB Prevention, Global AIDS Program (GAP) to initiate, expand, or strengthen HIV/AIDS prevention, care and treatment and support activities globally.

Activities: Awardee activities for this program are as follows:

A. Planning, Resource and Implementation Support of Surveillance, M&E and Information Management Activities Targeting HIV/AIDS and HIV-Related Conditions at National Level

1. Provide targeted resources and technical assistance to Ministries of Health and their national partners supporting the implementation of behavioral and/or prevalence surveillance activities at national level.

2. Provide targeted resources and support to Ministries of Health and their national partners for the implementation of strategic planning meetings, reviews, assessments and consultations supporting the expanded surveillance, M&E and information management activities at national level.

3. Provide resources and material support to Ministries of Health to improve infrastructure and systems supporting improved surveillance, care/treatment, laboratory and information management activities.

B. Planning, Resource and Implementation Support of Training and Capacity Building Programs Focused on Strategic Information at National and Regional Levels for Staff From Ministries of Health and Their National Partners

1. Perform needs assessments for training and capacity building associated with Strategic Information activities at national and regional levels; develop annual plans for the provision of relevant trainings offered on a regional basis and for economies of scale, in conjunction with existing conferences, meetings, and trainings, if possible.

2. Oversee logistics, travel and coordination of faculty, materials and requirements for relevant training courses, including translation of materials, as required.

C. Planning, Resource and Implementation Support of Relevant Travel of Key Collaborating Partners and Regional/Sub-Regional Meetings and Conferences Supporting the Exchange of Relevant Information

1. Provide travel support to travelers from key collaborating organizations to relevant regional and international conferences, meetings, consultations and trainings.

2. Oversee development of logistics, agendas, and reports associated with relevant meetings and conferences to be held at regional and sub-regional levels.

D. Resource and Administrative Support for the Recruitment and Assignment of Short and/or Long-Term Staff and Consultants To Support Relevant Activities at Country Level Within Ministries of Health and/or Their National Partners

Oversee the recruitment, selection and assignment of staff and consultants to provide specialized Strategic Information assistance to Ministries of Health and their partners;

E. Financial Management

1. Prepare a work plan that is consistent with the proposed activities in this announcement.

2. Prepare an annual budget for the proposed activities.

3. Prepare financial and progress reports—in English—according to CDC requirements and deadlines.

4. Contract an independent auditor, approved by CDC, to ensure ongoing financial accountability and preparation of periodic audit reports, including a possible pre-audit assessment.

In a Cooperative Agreement, CDC staff is substantially involved in the program activities, above and beyond routine grant monitoring.

CDC activities for this program are as follows:

1. Collaborate with the recipient in designing and supporting activities listed above with regular communications, planning sessions, technical and administrative meetings.

2. Review and approve the recipient's work plans for elaboration of the activities in this agreement.

3. Provide appropriate technical assistance—as agreed upon in the work plan—via persons identified as the CDC technical focal point(s) in the Central American region.

4. Hold periodic technical meetings with the recipient to assess progress and modify work plans, as necessary.

5. Hold annual meeting to review overall progress and elaborate work plans for subsequent year.

6. Collaborate with the recipient in the selection of key personnel to be involved in the activities performed under this agreement.

7. Provide administrative support on financial and reporting requirements, as required.

Technical assistance and training may be provided directly by CDC staff or through organizations that have successfully competed for funding under separate Cooperative Agreements or contracts.

II. Award Information

Type of Award: Cooperative Agreement.

CDC involvement in this program is listed in the Activities Section above.

Fiscal Year Funds: 2004.

Approximate Total Funding: $300,000. Up to $300,000 is available for the first year of an expected three-year project period. Annual amounts for successive years may increase or decrease based on the success of the project and availability of funds.

Approximate Number of Awards: One (1).

Floor of Award Range: $200,000.

Ceiling of Award Range: $300,000.

Anticipated Award Date: September 1, 2004.

Budget Period Length: 12 months.

Project Period Length: Three years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by nongovernmental organizations (NGOs) with full legal registration status in one or more countries within the Central American Region (Belize, Guatemala, Honduras, El Salvador, Nicaragua, Costa Rica and Panama), including faith based organizations that have direct experience in:

(a) Designing, implementing and evaluating HIV/AIDS activities in Central America.

(b) Designing and implementing first and second generation surveillance programs for HIV/AIDS and HIV/AIDS-related conditions, and assessing the strengths and weaknesses of existing surveillance systems.

(c) Designing, implementing and evaluating HIV/AIDS-related training and capacity-building programs.

(d) Designing and implementing programmatic assessments, reviews and consultations in collaboration with national Ministries of Health in the Central American Region, and specific to the areas HIV/AIDS surveillance, M&E, training and information management.

(e) Providing full logistical and organizational support to complex multi-country training programs, meetings and conferences at regional or national levels.

Preference will be given to organizations that:

(1) Maintain a headquarters/central/head office in the Central America region;

(2) Have national offices and full time staff/consultants physically present in all or the majority of the countries of Belize, Guatemala, El Salvador, Nicaragua, Costa Rica, and Panama.

(3) Have demonstrated organizational experience as recipient of grants, Cooperative Agreements or contracts from agencies of the United States (U.S.) Government and a successful history of program implementation in collaboration with agencies of the U.S. Government.

III.2. Cost Sharing or Matching

Matching funds are not required for this program.

III.3. Other

If your application is incomplete or non-responsive to the requirements listed in this section, it will not be entered into the review process. You will be notified that your application did not meet submission requirements.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC Web site, at the following Internet address: www.cdc.gov/od/pgo/forminfo.htm.

If you do not have access to the Internet, or if you have difficulty accessing the forms on-line, you may contact the CDC Procurement and Grants Office Technical Information Management Section (PGO-TIM) staff at: 770-488-2700, or the Public Health Advisor at the regional CDC office in Guatemala City, Guatemala, Mr. Mark Fussell, at (502) 369-0791, extension 515. Application forms can be mailed to you.

IV.2. Content and Form of Submission

Application: You must submit a project narrative with your application forms. The narrative must be submitted in the following format:

• Maximum number of pages: 15—If your narrative exceeds the page limit, only the first pages, which are within the page limit, will be reviewed.

• Pages must be numbered.

• Font size: 12 point unreduced.

• Paper size: 8.5 by 11 inches.

• Page margin size: One inch.

• Printed only on one side of page.

• Held together only by rubber bands or metal clips; not bound in any other way.

• Your application must be submitted in English.

Your narrative should address activities to be conducted over the entire project period, and must include at a minimum, a Plan, Demonstrated understanding of activity, Need for assistance, Objectives, Methods, Indicators/Performance Measures, Staffing to be supported, Timeline, and Budget and line item justification. Additional information may be included in the application appendices. This may include but is not limited to: organizational charts, curriculum vitas, letters of support, etc. The Budget/line item justification and appendices will not be counted toward the narrative page limit (15 pages).

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: August 30, 2004.

Explanation of Deadlines: Applications must be received in the CDC Procurement and Grants Office by 4:00 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

Restrictions, which must be taken into account while writing your budget, are as follows:

• Funds may be spent for reasonable program purposes, including travel, supplies, and services. Equipment may be purchased if deemed necessary to accomplish program objectives; however, prior approval by CDC officials must be requested in writing.

• All requests for funds contained in the budget shall be stated in U.S. dollars. Once an award is made, CDC will not compensate foreign grantees for currency exchange fluctuations through the issuance of supplemental awards.

• The costs that are generally allowable in grants to domestic organizations are allowable to foreign institutions and international organizations. With the exception of the American University, Beirut, and the World Health Organization (WHO), Indirect Costs will not be paid (either directly or through sub-award) to organizations located outside the territorial limits of the United States or to international organizations regardless of their location.

• The applicant may contract with other organizations under this program; however, the applicant must perform a substantial portion of the activities (including program management and operations, and delivery of services for which funds are required).

• You must obtain an annual audit of these CDC funds (program-specific audit) by a U.S. based audit firm with international branches and current licensure/authority in-country, and in accordance with International Accounting Standards or equivalent standard(s) approved in writing by CDC.

• A fiscal Recipient Capability Assessment may be required, prior to or post award, in order to review the applicant's business management and fiscal capabilities regarding the handling of U.S. Federal funds.

• Funds received from this announcement will not be used for the purchase of antiretroviral drugs for treatment of established HIV infection (with the exception of nevirapine in Prevention of Mother-to-Child Transmission (PMTCT) cases with prior written approval), occupational exposures, and non-occupational exposures.

• No funds appropriated under this announcement shall be used to carry out any program of distributing sterile needles or syringes for the hypodermic injection of any illegal drug.

• The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and when proven effective, microbicides. A recipient that is otherwise eligible to receive funds in connection with this document to prevent, treat, or monitor HIV/AIDS shall not be required to endorse or utilize a multisectoral approach to combating HIV/AIDS, or to endorse, utilize or participate in a prevention method or treatment program to which the recipient has a religious or moral objection. Any information provided by recipients about the use of condoms as part of projects or activities that are funded in connection with this document shall be medically accurate and shall include the public health benefits and failure rates of such use.

In addition, any foreign recipient must have a policy explicitly opposing, in its activities outside the United States, prostitution and sex trafficking, except that this requirement shall not apply to the Global Fund to Fight AIDS, Tuberculosis and Malaria, the WHO, the International AIDS Vaccine Initiative or to any United Nations agency, if such entity is a recipient of U.S. Government funds in connection with this document.

The following definitions apply for purposes of this clause:

• Sex trafficking means the recruitment, harboring, transportation, provision, or obtaining of a person for the purpose of a commercial sex act. (22 U.S.C. section 7102(9)).

• A foreign recipient includes an entity that is not organized under the laws of any State of the United States, the District of Columbia or the Commonwealth of Puerto Rico. Restoration of the Mexico City Policy, 66 FR 17303 (March 28, 2001).

All recipients must insert provisions implementing the applicable parts of this section, ‘Prostitution and Related Activities,” in all terms and conditions of the subagreement, acknowledge that each certification to compliance with this section, “Prostitution and Related Activities,” are a prerequisite to receipt of U.S. Government funds in connection with this document, and must acknowledge that any violation of the provisions shall be grounds for unilateral termination of the agreement prior to the end of its term. In addition, all recipients must ensure, through contract, certification, audit, and/or any other necessary means, all the applicable requirements of this section, “Prostitution and Related Activities,” are met by any other entities receiving U.S. Government funds from the recipient in connection with this document, including without limitation, the recipients' sub-grantees, sub-contractors, parents, subsidiaries, and affiliates.

Recipients must agree that HHS may, at any reasonable time, inspect the documents and materials maintained or prepared by the recipient in the usual course of its operations that relate to the organization's compliance with this section, “Prostitution and Related Activities.”

All primary grantees receiving U.S. Government funds in connection with this document must certify compliance prior to actual receipt of such funds in a written statement referencing this document (e.g., “[Recipient's name] certifies compliance with this section, ‘Prostitution and Related Activities’ ”) addressed to the agency's grants officer. Such certifications are prerequisites to the payment of any U.S. Government funds in connection with this document.

Recipient's compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event it is determined by HHS that the recipient has not complied with this section, “Prostitution and Related Activities.”

Awards will allow recipients reimbursement of pre-award costs such as photocopying, fax, postage or delivery charges and translation.

Guidance for completing your budget can be found on the CDC Web site, at the following Internet address: http://www.cdc.gov/od/pgo/funding/budgetguide.htm

IV.6. Other Submission Requirements

Application Submission Address: Submit the original and two hard copies of your application by mail or express delivery service to: Technical Information Management—PA# 04277, CDC Procurement and Grants Office, 2920 Brandywine Road, Atlanta, GA 30341, United States of America. Applications may not be submitted electronically at this time.

V. Application Review Information

V.1. Criteria

You are required to provide measures of effectiveness that will demonstrate the accomplishment of the various identified objectives of the Cooperative Agreement. Measures of effectiveness must relate to the performance goals stated in the “Purpose” section of this announcement. Measures must be objective and quantitative, and must measure the intended outcome. These measures of effectiveness must be submitted with the application and will be an element of evaluation.

Your application will be evaluated against the following criteria:

1. Understanding the proposed activity (25 points): Does the applicant demonstrate a good understanding of the extent and limitations of the proposed activity?

2. Feasibility of plan (25 points): Does the applicant's proposed plan for the activity appear feasible?

3. Relevant experience (25 points): Does the applicant have skills and experience relevant to the activities described in this program announcement?

4. Administration and management of project (25 points): Does the applicant seem capable of administering this project and meeting all CDC requirements?

V.2. Review and Selection Process

Applications will be reviewed for completeness by the Procurement and Grants Office (PGO) staff, and for responsiveness by National Center for HIV, STD and TB Prevention (NCHSTP)-Global AIDS Program. Incomplete applications and applications that are non-responsive to the eligibility criteria will not advance through the review process. Applicants will be notified that their application did not meet submission requirements.

An objective review panel will evaluate the complete and responsive application according to the criteria listed in the “V.1. Criteria” section above.

V.3. Anticipated Announcement and Award Dates

September 1, 2004.

VI. Award Administration Information

VI.1. Award Notices

The successful applicant will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements may apply to this project:

• AR-1 Human Subjects Requirements

• AR-4 HIV/AIDS Confidentiality Provisions

• AR-5 HIV Program Review Panel Requirements

• AR-10 Smoke-Free Workplace Requirements

• AR-12 Lobbying Restrictions

• AR-14 Accounting System Requirements

Additional information on these requirements can be found on the CDC Web site at the following Internet address: http://www.cdc.gov/od/pgo/funding/ARs.htm.

VI.3. Reporting Requirements

You must provide CDC with an original, plus two hard copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Budget.

e. Additional Requested Information.

f. Measures of Effectiveness.

2. Financial status report and annual progress report, no more than 90 days after the end of the budget period.

3. Final financial and performance reports, no more than 90 days after the end of the project period.

These reports must be mailed to the Grants Management or Contract Specialist listed in the “Agency Contacts” section of this announcement.

VII. Agency Contacts

For general questions about this announcement, contact: Technical Information Management Section, CDC Procurement and Grants Office, 2920 Brandywine Road, Atlanta, GA 30341, Telephone: (770) 488-2700.

For program technical assistance, contact: Edgar Monterroso/Mark Fussell, Co-Project Officers, HHS/CDC AE Guatemala Unit 3321, APO AA 34024, Telephone: (502) 369-0791, Ext 515, E-mail: em2z@cdc.gov or mfzz@cdc.gov.

For financial, grants management, or budget assistance, contact: Shirley Wynn, Grants Management Specialist, CDC Procurement and Grants Office, 2920 Brandywine Road, Atlanta, GA 30341, Telephone: (770) 488-1515, E-mail: Zbx6@cdc.gov.

Dated: July 23, 2004.
William P. Nichols,
Acting Director, Procurement and Grants Office, Centers for Disease Control and Prevention.

[FR Doc. 04-17279 Filed 7-28-04; 8:45 am]

BILLING CODE 4163-18-P